SOCIAL SECURITY ADMINISTRATION

Agency Information Collection Activities: Proposed Request and Comment Request

The Social Security Administration (SSA) publishes a list of information collection packages that will require clearance by the Office of Management and Budget (OMB) in compliance with Pub. L. 104-13, the Paperwork Reduction Act of 1995, effective October 1, 1995. The information collection packages that may be included in this notice are for revisions to OMB-approved information collections and extensions (no change) of OMB-approved information collections.

SSA is soliciting comments on the accuracy of the agency's burden estimate; the need for the information; its practical utility; ways to enhance its quality, utility, and clarity; and on ways to minimize burden on respondents, including the use of automated collection techniques or other forms of information technology. Written comments and recommendations regarding the information collection(s) should be submitted to the OMB Desk Officer and the SSA Reports Clearance Officer. The information can be mailed and/or faxed to the individuals at the addresses and fax numbers listed below:

(OMB), Office of Management and Budget, Attn: Desk Officer for SSA, New Executive Building, Room 10235, 725 17th St., NW., Washington, DC 20503. Fax: 202-395-6974.

(SSA), Social Security Administration, DCFAM, Attn: Reports Clearance Officer, 1338 Annex Building, 6401 Security Blvd., Baltimore, MD 21235. Fax: 410-965-6400.

I. The information collections listed below are pending at SSA and will be submitted to OMB within 60 days from the date of this notice. Therefore, your comments should be submitted to SSA within 60 days from the date of this publication. You can obtain copies of the collection instruments by calling the SSA Reports Clearance Officer at 410-965-0454 or by writing to the address listed above.

1. Contact with the Representative Payee and Contact with Beneficiary—0960-0639. SSA will use the SSA-L4945, Contact with the Representative Payee, and SSA-L4947, Contact with Beneficiary, to inform respondents and conduct quality reviews of payments made under the titles II and XVI (Old-Age, Survivors and Disability Insurance/Supplemental Security Income) programs. Cases for the review will be selected randomly and the information solicited will be used for verification of payment data on record in the claims folder and SSA's Master Beneficiary Record. Form SSA-L4945 will be used to notify Representative Payees who have the responsibility of managing payments for an SSA Beneficiary that the case has been selected for the review process and to request the required information. Form SSA-L4947 will be used to notify beneficiaries that their case has been selected for the review process and request the needed information. Both letters contain information that must be verified and returned to SSA under the review process. The respondents are beneficiaries and representative payees for beneficiaries receiving title II and title XVI benefits.

Type of Request: Extension of an OMB-approved information collection.

Number of Respondents: 200.

Frequency of Response: 1.

Average Burden Per Response: 15 minutes.

Estimated Annual Burden: 50 hours.

2. Early Intervention Project/Employment Services Provider Survey/0960-NEW.

Background

The Employment Services Provider Survey is being conducted as part of a process demonstration authorized by the Ticket to Work and Work Incentives Improvement Act of 1999. The process demonstration, Early Intervention (EI), will provide employment services and supports to certain applicants for Social Security disability insurance.

The purpose of the Early Intervention Project is to encourage applicants to begin the return to work process immediately after the onset of a disability. Many experts believe early intervention to be one of the most important factors in successful rehabilitation. Therefore, EI will immediately focus on a person's ability to work as opposed to proving they are unable to work as they do during the existing title II disability determination process. The proposed process demonstration is necessary to test the instruments and procedures targeted towards these objectives.

The EI Survey

Beginning in early 2005, EI will be piloted in three states. In New Mexico, EI will be piloted in the Albuquerque, Roswell/Carlsbad/Hobbs and Clovis areas. In Vermont, EI will be piloted throughout the entire state. In Wisconsin, EI will be piloted in the following counties: Green, Jefferson, Rock, Walworth, and Waukesha.

Information collected through the IE survey will be used by SSA for the purposes of project design, implementation and evaluation. The information will assist in designing how linkages are formed between participants and providers for EI. SSA's EI project staff will use the information to identify appropriate employment service providers for project participants. Project evaluators will use the information collected from the survey as a baseline assessment of the provider market in each area. The respondents to the IE survey are employment service providers in the pilot states.

Type of Request: New information collection.

Number of Respondents: 150.

Frequency of Response: 1.

Average Burden Per Response: 30 minutes.

Estimated Annual Burden: 75 hours.

II. The information collection listed below has been submitted to OMB for clearance. Your comments on the information collection would be most useful if received by OMB and SSA within 30 days from the date of this publication. You can obtain a copy of the OMB clearance packages by calling the SSA Reports Clearance Officer at 410-965-0454, or by writing to the address listed above.

1. Authorization for the Social Security Administration to Obtain Account Records from a Financial Institution—20 CFR 416.200 and 416.203—0960-0293. Form SSA-4641-U2 provides financial institutions with the customer's authorization to disclose records. Responses to the questions are used, in part, to determine whether resource requirements are met in the Supplemental Security Income program. The respondents are financial institutions (banks, savings and loans, credit unions, etc.).

Type of Request: Extension of an OMB-approved information collection.

Number of Respondents: 500,000.

Frequency of Response: 1.

Average Burden per Response: 6 minutes.

Estimated Annual Burden: 50,000 hours.

Dated: September 1, 2004.
Elizabeth A. Davidson,
Reports Clearance Officer, Social Security Administration.

[FR Doc. 04-20264 Filed 9-7-04; 8:45 am]

BILLING CODE 4191-02-P